DEPARTMENT OF COMMERCE

International Trade Administration

[A-823-815]

Oil Country Tubular Goods From Ukraine: Final Results of Antidumping Duty Administrative Review; 2019-2020

AGENCY: Enforcement and Compliance, International Trade Administration, Department of Commerce.

SUMMARY: The Department of Commerce (Commerce) determines that the sole producer/exporter sold subject merchandise in the United State at prices below normal value during the July 10, 2019, through June 30, 2020, period of review (POR).

DATES: Applicable February 10, 2022.

FOR FURTHER INFORMATION CONTACT: Toni Page, AD/CVD Operations, Office VII, Enforcement and Compliance, International Trade Administration, U.S. Department of Commerce, 1401 Constitution Avenue NW, Washington, DC 20230; telephone: (202) 482-1398.

SUPPLEMENTARY INFORMATION:

Background

On August 9, 2021, Commerce published the Preliminary Results of this administrative review.¹ We invited interested parties, including mandatory respondent Interpipe,² to comment on the Preliminary Results. For a description of the events since the Preliminary Results, as well as a full discussion of the issues raised by parties for these final results, see the Issues and Decision Memorandum.³ Commerce conducted this review in accordance with section 751(a) of the Tariff Act of 1930, as amended (the Act).

¹ See Oil Country Tubular Goods from Ukraine: Preliminary Results of Antidumping Duty Administrative Review; 2019-2020, 86 FR 43522 (August 9, 2021) (Preliminary Results), and accompanying Preliminary Decision Memorandum (PDM).

² Commerce has previously determined that Interpipe Europe S.A.; Interpipe Ukraine LLC (Interpipe Ukraine); PJSC Interpipe Niznedneprovsky Tube Rolling Plant (Interpipe NTRP); and LLC Interpipe Niko Tube (Niko Tube) are affiliated and treated as a single entity (i.e., Interpipe). See Preliminary Results PDM at “Affiliation and Collapsing.”

³ See Memorandum, “Issues and Decision Memorandum for the Final Results of the Antidumping Duty Administrative Review: Oil Country Tubular Goods from Ukraine, 2019-2020,” dated concurrently with, and hereby adopted by, this notice (Issues and Decision Memorandum).

Scope of the Order ⁴

⁴ See Termination of the Suspension Agreement on Certain Oil Country Tubular Goods from Ukraine, Rescission of Administrative Review, and Issuance of Antidumping Duty Order, 84 FR 33918 (July 16, 2019) (Order).

The products covered by the Order are certain oil country tubular goods (OCTG) from Ukraine. For a full description of the scope, see the Issues and Decision Memorandum.

Analysis of Comments Received

All issues raised in the parties' case and rebuttal briefs are addressed in the Issues and Decision Memorandum. A list of these issues is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received from interested parties regarding our Preliminary Results, we made certain changes to the calculation of the preliminary weighted-average dumping margin for Interpipe.

Final Results of the Review

As a result of this administrative review, we determine the following weighted-average dumping margin for the period July 10, 2019, through June 30, 2020:

Exporter or producer | Weighted- average dumping margin (percent)
Interpipe Europe S.A./Interpipe Ukraine LLC/PJSC Interpipe Niznedneprovsky Tube Rolling Plant (aka Interpipe NTRP)/LLC Interpipe Niko Tube | 27.80

Disclosure

We intend to disclose the calculations performed for these final results within five days of the date of publication of this notice in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.⁵ In accordance with 19 CFR 351.212(b)(1), Commerce calculated an importer-specific ad valorem antidumping assessment rate for Interpipe that is not zero or de minimis and will instruct CBP to assess antidumping duties on all appropriate entries covered by this review.

⁵ See Antidumping Proceeding: Calculation of the Weighted-Average Dumping Margin and Assessment Rate in Certain Antidumping Duty Proceedings; Final Modification, 77 FR 8101 (February 14, 2012).

Consistent with Commerce's assessment practice, for entries of subject merchandise during the POR produced by Interpipe for which it did not know that the merchandise was destined for the United States, we will instruct CBP to liquidate unreviewed entries at the all-others rate if there is no rate for the intermediate company(ies) involved in the transaction.⁶

⁶ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) The cash deposit rate for Interpipe will be equal to the weighted-average dumping margin established in the final results of this administrative review; (2) for previously reviewed or investigated companies not listed above, the cash deposit rate will continue to be the company-specific rate published for the most recently completed segment of this proceeding in which the company participated; (3) if the exporter was not a firm covered in this review or in the investigation but the producer was covered, the cash deposit rate will be the rate established for the most recently completed segment of this proceeding for the producer of the merchandise; and (4) the cash deposit rate for all other producers or exporters will continue to be the all-others rate of 7.47 percent, the all-others rate established in the original less-than-fair-value investigation.⁷ These cash deposit requirements, when imposed, shall remain in effect until further notice.

⁷ See Order, 84 FR at 33919.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order, is hereby requested. Failure to comply with the regulations and the terms of an APO is a sanctionable violation.

Notification to Interested Parties

We are issuing and publishing these results of administrative review in accordance with sections 751(a)(1) and 777(i) of the Act, and 19 CFR 351.221(b)(5).

Dated: February 4, 2022.
Lisa W. Wang,
Assistant Secretary for Enforcement and Compliance.

Appendix

List of Topics Discussed in the Issues and Decision Memorandum

I. Summary

II. Background

III. Changes Since the Preliminary Results

IV. Scope of the Order

V. Discussion of the Issues

Comment 1: Whether Commerce Incorrectly Added Certain U.S. Direct Selling Expenses to Normal Value

Comment 2: Whether to Grant Interpipe a Constructed Export Price (CEP) Offset

Comment 3: Whether to Treat Section 232 Tariffs as U.S. Customs Duties

Comment 4: Whether Commerce Should Correct the CONNUM Field Used as the Basis for the Margin Calculation

Comment 5: Whether Commerce Should Include Sales of Current Assets in the Calculation of General and Administrative (G&A) Expenses

Comment 6: Whether Commerce Should Make an Adjustment to Interpipe's Reported Depreciation

Comment 7: Whether Commerce Should Revise Niko Tube's G&A Expense Ratio

VI. Recommendation

[FR Doc. 2022-02856 Filed 2-9-22; 8:45 am]

BILLING CODE 3510-DS-P